DEPARTMENT OF HOMELAND SECURITY

Office of the Secretary

6 CFR Part 5

[DHS-2005-0016]

Privacy Act of 1974; Implementation of Exemptions; Correction

AGENCY: Office of the Secretary, DHS.

ACTION: Proposed rule; correction.

SUMMARY: The Department of Homeland Security (DHS) is correcting a notice of proposed rulemaking that was published in the Federal Register on March 22, 2005, at 70 FR 14427 which gives notice that DHS is concurrently establishing a new system of records pursuant to the Privacy Act of 1974 for the Bureau of Immigration and Customs Enforcement, Student and Exchange Visitor Program. In that proposed rulemaking, the Department proposes to exempt portions of this system of records from one or more provisions of the Privacy Act because of criminal, civil and administrative enforcement requirements. In the Heading of the proposed rulemaking, DHS inadvertently mislabeled the DHS docket number associated with the rulemaking. DHS would like to announce that the DHS docket number for submitting comments via to this notice is DHS-2005-0016. Directions for submitting comments using this method are outlined within 70 FR 14427.

DATES: This correction is issued as of March 28, 2005.

FOR FURTHER INFORMATION CONTACT: Jeff Ament, Department of Homeland Security Regulatory Coordinator, Department of Homeland Security, Washington, DC 20528, (202) 205-8088.

SUPPLEMENTARY INFORMATION:

Need for Correction

As published in the Federal Register on March 22, 2005 (70 FR 14427), the document contains an error that is in need of correction.

Correction of Publication

Accordingly, the publication on March 22, 2005 (70 FR 14477), is corrected as follows:

1. On page 14427, in the heading, third line, the new DHS docket number should read: “DHS Docket Number DHS-2005-0016.”

Mary Kate Whalen,
Deputy Associate General Counsel for Regulations, Office of the General Counsel, U.S. Department of Homeland Security.

[FR Doc. 05-6052 Filed 3-23-05; 4:33 pm]

BILLING CODE 4410-10-P